DEPARTMENT OF ENERGY

Federal Energy Regulatory Commission

Notice of Revocation of Market-Based Rate Authority and Termination of Electric Market-Based Rate Tariff

| Docket Nos.
Electric Quarterly Reports | ER02-2001-020
Astral Energy LLC | ER14-519-000
Clear Green Energy LLC | ER23-946-000
GP Energy Management LLC | ER15-230-000
Mega Energy Holdings LLC | ER13-1298-001
Planet Energy (Maryland) Corp | ER11-2168-001
Planet Energy (New York) Corp | ER11-2179-001
Planet Energy (Pennsylvania) Corp | ER11-2167-001
Planet Energy (USA) Corp | ER11-2166-001
Power Supply Services LLC | ER12-862-000
Relief Energy LLC | ER23-945-000
The Valence Group, LLC | ER22-549-000

On October 23, 2024, the Commission issued an order announcing its intent to revoke the market-based rate authority of several public utilities that had failed to file their required Electric Quarterly Reports.¹ The Commission directed those public utilities to file the required Electric Quarterly Reports within 15 days of the date of issuance of the order or face revocation of their authority to sell power at market-based rates and termination of their electric market-based rate tariffs.²

¹ Electric Quarterly Reports, 189 FERC ¶ 61,050 (2024) (October 23 Order).

² Id. at Ordering Paragraph A.

The time period for compliance with the October 23 Order has elapsed. The above-captioned companies failed to file their delinquent Electric Quarterly Reports. The Commission hereby revokes, effective as of the date of issuance of this notice, the market-based rate authority and terminates the electric market-based rate tariff of each of the companies who are named in the caption of this order.

Dated: November 19, 2024.
Debbie-Anne A. Reese,
Secretary.

[FR Doc. 2024-27576 Filed 11-22-24; 8:45 am]

BILLING CODE 6717-01-P